DEPARTMENT OF HOMELAND SECURITY

Federal Emergency Management Agency

[Docket ID FEMA-2013-0003]

Notice of Chargeable Rates Under the National Flood Insurance Program for Non-Primary Residences

AGENCY: Federal Emergency Management Agency, DHS.

ACTION: Notice.

SUMMARY: The Federal Emergency Management Agency (FEMA) is publishing the chargeable rates under the National Flood Insurance Program for non-primary residences.

DATES: The rates announced in this notice are effective January 1, 2013.

ADDRESSES: The docket for this notice is available at www.regulations.gov under Docket ID FEMA-2013-0003. You may also view the docket at the Office of Chief Counsel, Federal Emergency Management Agency, Room 835, 500 C Street SW., Washington, DC 20472.

FOR FURTHER INFORMATION CONTACT: Tom Hayes, Actuary, FEMA, 1800 South Bell St., Arlington, VA 20598-3010, at Thomas.Hayes@fema.dhs.gov or (202) 6463419.

SUPPLEMENTARY INFORMATION: Pursuant to section 100205 of the Biggert-Waters Flood Insurance Reform Act of 2012 (BW12), Public Law 112-141, 42 U.S.C. 4015, FEMA is authorized to prescribe by notice chargeable premium rates for any residential property which is not the primary residence of an individual. These chargeable premium rates are for coverage which is at or below the following limits:

(1) For dwelling properties in States other than Alaska, Hawaii, the Virgin Islands and Guam (i) $35,000 aggregate liability for any property containing only one unit, (ii) $100,000 for any property containing only one unit, and (iii) $10,000 liability per unit for any contents related to such unit.

(2) For dwelling properties in Alaska, Hawaii, the Virgin Islands, and Guam (i) $50,000 aggregate liability for any property containing only one unit, (ii) $150,000 for any property containing only one unit, and (iii) $10,000 aggregate liability per unit for any contents related to such unit.

(3) For churches and other properties (i) $100,000 for the structure and (ii) $100,000 for the contents of any such unit.

The chargeable premium rates for residential property which is not the primary residence of an individual effective on or after January 1, 2013 are as follows:

Type of structure | A Zone ¹ rates per year per $100 coverage on:: Structure | A Zone ¹ rates per year per $100 coverage on:: Contents | V Zone ² rates per year per $100 coverage on:: Structure | V Zone ² rates per year per $100 coverage on:: Contents
No Basement or Enclosure | .95 | 1.20 | 1.24 | 1.54
With Basement or Enclosure | 1.02 | 1.20 | 1.33 | 1.54
¹ A-zones are zones A1-A30, AE, AO, AH, and unnumbered A-zones.
² V-zones are zones V1-V30, VE, and unnumbered V-zones.

Pursuant to section 100205 of BW12, rates for any residential property that is not the primary residence of an individual must increase by 25 percent per year until the average risk premium rate is equal to the actuarial rate. See 42 U.S.C. 4015(e). FEMA will publish future increases to these rates by a notice in the Federal Register.

Authority: 42 U.S.C. 4014, 4015.

Edward L. Connor,
Deputy Associate Administrator for Federal Insurance, Federal Emergency Management Agency.

[FR Doc. 2013-04981 Filed 3-4-13; 8:45 am]

BILLING CODE 9110-11-P